DEPARTMENT OF TRANSPORTATION

Coast Guard

33 CFR Parts 140, 141, 142, 143, 144, 145, 146, and 147

[USCG-1998-3868]

RIN 2115-AF39

Outer Continental Shelf Activities

AGENCY: Coast Guard, DOT.

ACTION: Proposed rule; correction.

SUMMARY: This document corrects the preamble and proposed regulatory text published in the Federal Register of December 7, 1999, regarding Outer Continental Shelf Activities.

FOR FURTHER INFORMATION CONTACT: For questions on this proposed rule, call Mr. James M. Magill, Vessel and Facility Operating Standards Division (G-MSO-2), telephone 202-267-1082, or fax 202-267-4570. For questions on viewing, or submitting material to the docket, call Dorothy Walker, Chief, Dockets, Department of Transportation, telephone 202-366-9329.

SUPPLEMENTARY INFORMATION:

Corrections

In the proposed rule 33 CFR Parts 140 through 147, beginning on page 68416 in the issue of December 7, 1999, make the following corrections.

1. On page 68416 in the first column, under DATES, the second sentence currently reads, “Comments sent to the Office of Management and Budget (OMB) on collection of information must reach OMB on or before February 7, 2000.” This sentence should read “Comments sent to the Office of Management and Budget (OMB) on collection of information must reach OMB on or before April 5, 2000.”

2. On page 68430 in the second column, the sentence starting on line 52 currently reads, “A primary point of discussion revolved around the use of a Certified Marine Chemist and or the use of a Competent Person.” This sentence should read, “A primary point of discussion revolved around the use of a Certified Marine Chemist and/or the use of a Competent Person.”

3. On page 68431 in the second column, the sentence starting on line 23 currently reads, “Lifesaving equipment on manned fixed facilities (subpart I) including survival craft and rescue boats (§§ 143.825 and 143.826), survival craft for temporary personnel (§ 143.828), approval requirements for lifeboats (§ 143.830), free-fall lifeboats (§ 143.831), inflatable life rafts (§ 143.832), rigid life rafts (§ 143.833), marine evacuation systems (143.834), life floats (§ 143.835), launching and recovery equipment (§§ 143.836 and 143.837), location and arrangement of survival craft (§ 143.840), rescue boat approval and stowage (§ 143.841), embarkation, launching, and recovery arrangements (§ 143.842), lifejackets (§§ 143.845 through 143.848), ring life buoys (§§ 143.850 through 143.852), first aid kit (§ 143.855), immersion suits (§ 143.870), marking of work vests (§ 143.877), inflatable lifejackets (§ 143.881), and marking requirements for lifesaving equipment (§ 143.885).” This sentence should read, “Lifesaving equipment on manned fixed facilities (subpart I) including survival craft and rescue boats (§§ 143.825 and 143.826), survival craft for temporary personnel (§ 143.828), approval requirements for lifeboats (§ 143.830), free-fall lifeboats (§ 143.831), inflatable life rafts (§ 143.832), rigid life rafts (§ 143.833), marine evacuation systems (§ 143.834), life floats (§ 143.835), launching and recovery equipment (§§ 143.836 and 143.837), location and arrangement of survival craft (§ 143.840), rescue boat approval and stowage (§ 143.841), embarkation, launching, and recovery arrangements (§ 143.842), lifejackets (§§ 143.845 through 143.848), ring life buoys (§§ 143.850 through 143.852), first aid kit (§ 143.855), immersion suits (§ 143.870), marking of work vests (§ 143.877), inflatable lifejackets (§ 143.881), and marking requirements for lifesaving equipment (§ 143.885).”

4. On page 68434 in the first column, the sentence starting on line 13 currently reads, “Because many of the potential safety hazards on fixed facilities are similar to those on MODU's, requirements proposed in this subpart are similar to those applied to MODU's under subchapter I-A of 46 CFR chapter I.” This sentence should read, “Because many of the potential safety hazards on fixed facilities are similar to those on MODU's, requirements proposed in this subpart are similar to those applied to MODU's under subchapter I-A of 46 CFR chapter I.”

5. On page 68435 in the third column, the sentence starting on line 38 currently reads, “This section cross-references the requirements for immersion suits for manned fixed facilities (§ 143.870), unmanned fixed facilities (§ 143.925), manned floating facilities (144.310), unmanned floating facilities (§ 144.420), U.S. vessels (§ 146.200), and foreign vessels (§ 146.210).” It should read, “This section cross-references the requirements for immersion suits for manned fixed facilities (§ 143.870), unmanned fixed facilities (§ 143.925), manned floating facilities (§ 144.310), unmanned floating facilities (§ 144.420), U.S. vessels (§ 146.200), and foreign vessels (§ 146.210).”

6. On page 68450 in the first column, the definition of Marine inspector currently reads, “Marine inspector means an individual designated as such by an ‘Officer in Charge, Marine Inspection,’ to perform inspections of OCS units to determine whether or not the requirements of Coast Guard regulations or laws administered by the Coast Guard are met.” The definition should read, “Marine inspector means an individual designated as such by an ‘Officer in Charge, Marine Inspection,’ to perform inspections of ‘OCS units’ to determine whether or not the requirements of Coast Guard regulations or laws administered by the Coast Guard are met.”

7. On page 68450 in the third column, the definition of Outer Continental Shelf or OCS reads, “Outer Continental Shelf or OCS means all submerged lands lying seaward and outside of the area of lands beneath navigable waters (as the term ‘lands beneath navigable waters’ is defined in section 2(a) of the Submerged Lands Act (43 U.S.C. 1301(a)) and of which the subsoil and seabed appertain to the United States and are subject to its jurisdiction and control.” The definition should read, “Outer Continental Shelf or OCS means all submerged lands lying seaward and outside of the area of lands beneath navigable waters (as the term ‘lands beneath navigable waters’ is defined in section 2(a) of the Submerged Lands Act (43 U.S.C. 1301(a))) and of which the subsoil and seabed appertain to the United States and are subject to its jurisdiction and control.”

8. On page 68451 in the third column, the entry for API RP 54 currently reads, “API RP 54, Occupational Safety and Health for Oil and Gas Well Drilling and Servicing Operations, and Servicing Operations, Second Edition, May 1, 1992—142.265”. The entry should read, “API RP 54, Occupational Safety and Health for Oil and Gas Well Drilling and Servicing Operations, Second Edition, May 1, 1992—142.265”.

9. On page 68452 in the first column, the entry for IMO resolution A.649(16) currently reads, “IMO Resolution A.649(16), Code for the Construction and Equipment of Mobile Offshore Drilling Units, 1989—144.1005; 144.1020; 145.105; 145.205; 45.305; 145.410”. The entry should read, “IMO Resolution A.649(16), Code for the Construction and Equipment of Mobile Offshore Drilling Units, 1989—144.1005; 144.1020; 145.105; 145.205; 145.305; 145.410”.

10. On page 68452 in the third column, the heading “§ 140.50 What are the penalties for noncompliance?” should be changed to “§ 140.50 What are the penalties for noncompliance with these regulations?”

11. On page 68458 in the third column, the definition of Hot work currently reads, “Hot work means work that produces heat or fire, such as riveting, welding, burning, or the use of powder-actuated fastening tools. Work that produces sparks, such as grinding, drilling, or abrasive blasting, is hot work if considered so by a Certified Marine Chemist.” The definition should read, “Hot work means work that produces heat or fire, such as riveting, welding, burning, or the use of power-actuated fastening tools. Work that produces sparks, such as grinding, drilling, or abrasive blasting, is hot work if considered so by a Certified Marine Chemist.”

12. On page 68459 in the second column, under section 142.110, paragraph (b)(2) currently reads, “That the equipment is maintained and used or worn as required by this subpart.” It should read, “That the equipment is maintained and used or worn as required by this subpart; and”.

13. On page 68462 in the second column, section 142.280 currently reads, “When a crane is being used with a personnel transfer net to transfer personnel over water, personnel must wear a Coast Guard approved personal floatation device. The crane operator must not lift or lower personnel directly over an OSC unit or attending vessel, except to clear or land personnel.” It should read, “When a crane is being used with a personnel transfer net to transfer personnel over water, personnel must wear a Coast Guard approved personal floatation device. The crane operator must not lift or lower personnel directly over an OCS unit or attending vessel, except to clear or land personnel.”

14. On page 68465 in the first column, under section 142.366, paragraph (a) currently reads, “The owner, operator, and person in charge must ensure that, in addition to the training under § 142.360, each member of the rescue team is trained to use the personal protective, rescue, and medical equipment needed to perform their functions as part of the team.” It should read, “The owner, operator, or person in charge must ensure that, in addition to the training under § 142.360, each member of the rescue team is trained to use the personal protective, rescue, and medical equipment needed to perform their functions as part of the team.”

15. On page 68467 in the second column, under 142.415, paragraph (b) currently reads, “The training must be supplemental to address each hazardous material newly introduced on the facility.” It should read, “The training must be supplemental to address each hazardous material newly introduced on the facility.”

16. On page 68475 in the first column, under section 143.730, paragraph (d) currently reads, “You must replace during the annual inspection each battery used in an item of lifesaving equipment and clearly marked with an expiration date if the expiration date has passed.” It should read, “You must replace during the annual inspection each battery used in an item of lifesaving equipment and clearly mark with an expiration date if the expiration date has passed.”

17. On page 68485 in the second column, under section 143.1105, paragraph (b) currently reads “When on a facility under paragraph (a)(1) of this section—(1) Each accommodation module; (2) Each temporary accommodation module; or”. It should read, “When on a facility under paragraph (a)(1) of this section—(1) Each accommodation module; (2) Each temporary accommodation module; or (3) Each accommodation module that is part of a drilling/workover rig package.”

18. On page 68485, in the second and third columns, under section 143.1115, paragraph (c) introductory text currently reads “Accommodation spaces, accommodation modules, temporary accommodation modules, and accommodation modules that are part of a drilling/workover rig package for 16 or fewer persons must be treated as new lodging or rooming houses under chapter 20 of NFPA 101 and meet chapters 20 and 31 of NFPA 101, except as follows:”. It should read, “Accommodation spaces, accommodation modules, temporary accommodation modules, and accommodation modules that are part of a drilling/workover rig package for 16 or fewer persons must be treated as new lodging or rooming houses under chapter 20 of NFPA 101 and meet chapters 20 and 32 of NFPA 101, except as follows:”.

19. On page 68486, in table 143.1115(f), the line that reads, “Chapter 20 and 31 of NFPA 101, Life Safety Code per § 143.1115(c).” should read, “Chapter 20 and 32 of NFPA 101, Life Safety Code per § 143.1115(c).”

20. On page 68490 in column 1, under section 143.1335, the headings for paragraphs (a), (b), and (c) should appear in italic type.

21 On page 68494 in the second column, the introductory text of section 144.800 currently reads, “This part applies to each U.S. floating facility that—”. It should read, “This subpart applies to each U.S. floating facility that—”.

22. On page 68494 in the third column, the heading “§ 144.810 When may a facility begin or continue operations after its plans are submitted?” should be changed to “§ 144.810 When may a floating facility begin or continue operations after its plans are submitted?”

23. On page 68496 in the second column, the heading “§ 144.1005 What are the operating requirements for a foreign facility?” should be changed to “§ 144.1005 What are the operating requirements for a foreign floating facility?”

24. On page 68496 in the second column, the heading “§ 144.1010 What are the requirements for an emergency evacuation plan for a foreign facility?” should be changed to “§ 144.1010 What are the requirements for an emergency evacuation plan for a foreign floating facility?”

25. On page 68496 in the second column, the heading “§ 144.1015 What are the requirements for operating manuals for a foreign facility?” should be changed to “§ 144.1015 What are the requirements for operating manuals for a foreign floating facility?”

26. On page 68496 in the second column, the heading “§ 144.1020 What are the design, equipment, and inspection requirements for a foreign facility?” should be changed to “§ 144.1020 What are the design, equipment, and inspection requirements for a foreign floating facility?”

27. On page 68496 in the third column, the heading “§ 144.1025 What are the additional requirements for a foreign facility used for storage of oil in bulk?” should be changed to “§ 144.1025 What are the additional requirements for a foreign floating facility used for storage of oil in bulk?”

28. On page 68497 in the first column, the heading “§ 144.1030 How do I get a letter of compliance for a foreign facility?” should be changed to “§ 144.1030 How do I get a letter of compliance for a foreign floating facility?”

29. On page 68497 in the first column, the heading “§ 144.1035 When must a foreign facility be reinspected?” should be changed to “§ 144.1035 When must a foreign floating facility be reinspected?”

30. On page 69497 in the third column, the text of section 145.100 currently reads, “Each U.S. MODU must comply with the operating requirements in 46 CFR part 109 when engaged in OCS activities.” It should read, “Each U.S. MODU must comply with the operational requirements in 46 CFR part 109 when engaged in OCS activities.”

31. On page 68497 in the third column, 145.105(a) currently reads, “The operating requirements in 46 CFR part 109.” It should read, “The operational requirements in 46 CFR part 109.”

32. On page 68498 in the first column, under section 145.106(a), paragraphs (1) and (2) currently read, “ (1) Notified of each event listed in 46 CFR 4.05-1(a)(1) through (a)(6), and (2) Notified of an occurrence causing property damage in excess of $100,000, this damage including the cost of labor and material to restore the property to its condition before the occurrence, but not including the cost of salvage, cleaning, gas-freeing, drydocking, or demurrage.” They should read, “

“(1) Notified of each event listed in 46 CFR 4.05-1(a)(1) through (a)(6); and

(2) Notified of an occurrence causing property damage in excess of $100,000, this damage including the cost of labor and material to restore the property to its condition before the occurrence, but not including the cost of salvage, cleaning, gas-freeing, drydocking, or demurrage.”

33. On page 68498 in the second column, under section 145.110, paragraph (c) currently reads, “Information under paragraphs (a) and (b) of this section may be provided by telephone or may be submitted together with, and need not repeat, information submitted in applications and notices under the aids to navigation requirements in part 67 of this chapter.” It should read, “Information under paragraphs (a) and (b) of this section may be provided by telephone or may be submitted together with, and need not repeat, information submitted in applications and notices under the aids to navigation requirements in part 67 of this chapter.”

34. On page 68500 in the second column, under section 145.540, paragraph (b) currently reads, “If the OCMI determines that the MIDU meets the requirements of paragraph (a) of this part, the OCMI issues a letter of compliance for the MIDU. The OCMI may require that the MIDU be inspected as part of this determination.” It should read, “If the OCMI determines that the MIDU meets the requirements of paragraph (a) of this section, the OCMI issues a letter of compliance for the MIDU. The OCMI may require that the MIDU be inspected as part of this determination.”

35. On page 68500 in the second column, under § 145.540, paragraph (c) currently reads, “A letter of compliance under paragraph (b) of this part is valid for 2 years or until the MIDU departs the OCS, whichever comes first.” It should read, “A letter of compliance under paragraph (b) of this section is valid for 2 years or until the MIDU departs the OCS, whichever comes first.”

36. On page 68501 in the first column, under section 146.100, paragraph (c) currently reads, “The owner and operator must ensure that the name of the individual acting as the person in charge is made available upon request by Coast Guard personnel.” It should read, “The owner or operator, or their agent, must ensure that the name of the individual acting as the person in charge is made available upon request by Coast Guard personnel.”

37. On page 68503 in the third column, the authority citation currently reads, “14 U.S.C. 85; 43 U.S.C. 1333: 49 CFR 1.46.” It should read, “14 U.S.C. 85; 43 U.S.C. 1333; 49 CFR 1.46.”

Dated: February 11, 2000.
Joseph J. Angelo,
Director of Standards, Marine Safety and Environmental Protection.

[FR Doc. 00-3825 Filed 2-18-00; 8:45 am]

BILLING CODE 4910-15-U